AFRICAN DEVELOPMENT FOUNDATION

Sunshine Act Board of Directors Meeting

TIME: 9 a.m. to 1 p.m.

PLACE: ADF Headquarters.

DATE: Friday, May 18, 2001.

STATUS: Closed.

Agenda

9 a.m.—Executive Session (Closed)

1 p.m.—Adjournment

If you have any questions or comments, please direct them to Doris Mason Martin, General Counsel, who can be reached at (202) 673-3916.

Nathaniel Fields,
President.

[FR Doc. 01-12387 Filed 5-11-01; 3:37 pm]

BILLING CODE 6116-01-P